ENVIRONMENTAL PROTECTION AGENCY

[FRL-10020-66-Region 8]

Clean Air Act Operating Permit Program: Petitions for Objection to State Operating Permit for Hunter Power Plant (Emery County, Utah) and State Operating Permit for Coyote Station Power Plant (Mercer County, North Dakota)

AGENCY: Environmental Protection Agency (EPA).

ACTION: Notice of final orders on petitions to object to state operating permits.

SUMMARY: The EPA Administrator signed orders, dated January 13, 2021, and January 15, 2021, denying the petitions submitted on separate permitting actions in Utah and North Dakota, respectively. The January 13, 2021 Order pertains to two petitions submitted by the Sierra Club requesting that EPA object to the issuance of the Clean Air Act (CAA) title V operating permit issued to the Hunter Power Plant in Castle Dale, Emery County, Utah, by the Utah Department of Environmental Quality, Division of Air Quality (UDAQ). The January 13, 2021 Order responds to Sierra Club's April 11, 2016 petition regarding title V operating permit # 1500101002 (2016 Permit), and Sierra Club's October 20, 2020 petition regarding title V operating permit # 1500101004 (2020 Permit). The January 15, 2021 Order responds to petitions submitted by Casey and Julie Voigt requesting that EPA object to the title V operating permit issued to the Coyote Station Power Plant in Beulah, Mercer County, North Dakota, by the North Dakota Department of Environmental Quality (NDDEQ).

The Orders constitute final actions on the petitions.

ADDRESSES: You may review copies of the Orders and petitions electronically at https://www.epa.gov/title-v-operating-permits/title-v-petition-database. To reduce the risk of COVID-19 transmission, for this action we do not plan to offer hard copy review of these documents or other supporting information. Please email or call the person listed in the FOR FURTHER INFORMATION CONTACT section if you need to make alternative arrangements for access to the documents.

FOR FURTHER INFORMATION CONTACT: Gail Fallon, Air Permitting and Monitoring Branch (8ARD-PM), EPA Region 8, 1595 Wynkoop Street, Denver, Colorado, 80202-1129. Phone: (303) 312-6281. Email: fallon.gail@epa.gov.

SUPPLEMENTARY INFORMATION: The CAA affords EPA a 45-day period to review and, as appropriate, the authority to object to operating permits proposed by state permitting authorities under title V of the CAA, 42. U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the Act, a petition for judicial review of those portions of the Order that deny issues in the petition may be filed in the United States Court of Appeals for the appropriate circuit within 60 days from the date this document appears in the Federal Register.

State Operating Permit for Hunter Power Plant (Emery County, Utah)

EPA received petitions from the Sierra Club, requesting that EPA object to the 2016 Permit and the 2020 Permit for the Hunter Power Plant. Among other things, the Sierra Club claims that the 2016 and 2020 Permits are deficient because they do not include Prevention of Significant Deterioration (PSD) permitting requirements. More specifically, the Sierra Club asserts that Best Achievable Control Technology requirements as well as terms and conditions necessary to adequately protect national ambient air quality standards and PSD increments are required. EPA denied the 2016 petition on October 16, 2017; however, the Sierra Club sought judicial review of a portion of the 2017 Order in the United States Court of Appeals for the Tenth Circuit. On July 2, 2020, the Tenth Circuit issued a decision vacating and remanding the 2017 Order. EPA's January 13, 2021 Order responds to the Tenth Circuit's decision, replaces the vacated portion of EPA's 2017 Order, and separately responds to the 2020 Petition.

On January 13, 2021, the Administrator issued an Order denying the petitions, but directing UDAQ to reopen the 2020 Permit for cause.

State Operating Permit for Coyote Station Power Plant (Mercer County, North Dakota)

EPA received petitions from the Voigts, requesting that EPA object to the title V permit for the Coyote Station Power Plant. The Voigts allege that the permit fails to ensure compliance with applicable requirements under the CAA in that: (1) The Coyote Station Power Plant and the nearby Coyote Creek Mine should be considered a single source for title V and New Source Review preconstruction permitting purposes; and (2) the permit fails to include appropriate CAA requirements for the mine, the mine's coal processing plant, and the power plant. On January 15, 2021, the Administrator issued an Order denying the petition.

The Orders issued on January 13, 2021, and January 15, 2021, explain EPA's basis for denying the petitions.

Dated: February 23, 2021.
Debra Thomas,
Acting Regional Administrator, Region 8.

[FR Doc. 2021-04127 Filed 2-26-21; 8:45 am]

BILLING CODE 6560-50-P